SOCIAL SECURITY ADMINISTRATION

Agency Information Collection Activities: Proposed Request

The Social Security Administration (SSA) publishes a list of information collection packages requiring clearance by the Office of Management and Budget (OMB) in compliance with Public Law 104-13, the Paperwork Reduction Act of 1995, effective October 1, 1995. This notice includes revisions to OMB-approved information collections.

SSA is soliciting comments on the accuracy of the agency's burden estimate; the need for the information; its practical utility; ways to enhance its quality, utility, and clarity; and ways to minimize burden on respondents, including the use of automated collection techniques or other forms of information technology. Mail, e-mail, or fax your comments and recommendations on the information collection(s) to the OMB Desk Officer and SSA Reports Clearance Officer at the following addresses or fax numbers.

(OMB), Office of Management and Budget, Attn: Desk Officer for SSA. Fax: 202-395-6974. E-mail address: OIRA_Submission@omb.eop.gov.

(SSA), Social Security Administration, DCBFM, Attn: Reports Clearance Officer, 1333 Annex Building, 6401 Security Blvd., Baltimore, MD 21235. Fax: 410-965-6400. E-mail address: OPLM.RCO@ssa.gov.

The information collections below are pending at SSA. SSA will submit them to OMB within 60 days from the date of this notice. To be sure we consider your comments, we must receive them no later than March 4, 2011. Individuals can obtain copies of the collection instruments by calling the SSA Reports Clearance Officer at 410-965-8783 or by writing to the above e-mail address.

1. Request for Waiver of Overpayment Recovery or Change in Repayment Notice—20 CFR 404.502-404.513, 404.515, 20 CFR 416.550-416.570, and 416.572—0960-0037. When Social Security beneficiaries and Supplemental Security Income (SSI) recipients receive an accidental overpayment of benefits, they must repay the amount of the overpayment. These beneficiaries and recipients can use Form SSA-632-BK to take one of three actions: (1) Request an exemption from repaying, as recovery of the payment would cause financial hardship; (2) inform SSA they want to repay the overpayment at a monthly rate over a period longer than 36 months; and (3) request a different rate of recovery. In the latter two cases, the respondents must also provide financial information to SSA to help the agency determine how much the overpaid person can afford to repay each month. Respondents are overpaid beneficiaries or SSI recipients who are requesting a waiver of recovery of an overpayment or a lesser rate of withholding.

Type of Request: Revision of an OMB-approved Information Collection.
Type of request | Number of respondents | Frequency of response | Response time | Total burden (hours)
Waiver of Overpayment (Completes Whole Paper Form) | 400,000 | 1 | 2 hours | 800,000
Change in Repayment (Completes Partial Paper Form) | 100,000 | 1 | 45 minutes | 75,000
Regional Application (New York Debt Management) | 44,000 | 1 | 2 hours | 88,000
Internet Instructions | 500,000 | 1 | 5 minutes | 41,667
Totals | 1,044,000 |  |  | 1,004,667

2. Employee Work Activity Questionnaire—20 CFR 404.1574 and 20 CFR 404.1592-0960-0483—Social Security disability beneficiaries and SSI recipients qualify for payments when a verified physical or mental impairment prevents them from working. If disability claimants attempt to return to work after receiving payments, but are unable to continue working, they submit Form SSA-3033, Employee Work Activity Questionnaire, so SSA can evaluate their work attempt. SSA uses this form to evaluate unsuccessful subsidy work and determine applicants' continuing eligibility for disability payments. The respondents are employers of Social Security disability beneficiaries and SSI recipients who unsuccessfully attempted to return to work.

Type of Request: Revision of an OMB-approved information collection.

Number of Respondents: 15,000.

Frequency of Response: 1.

Average Burden per Response: 15 minutes.

Estimated Annual Burden: 3,750 hours.

3. Sheltered Workshop Wage Reporting—0960-0771. Sheltered workshops are nonprofit organizations or institutions that implement a recognized program of rehabilitation for handicapped workers, or provide such workers with remunerative employment or other occupational rehabilitating activity of an educational or therapeutic nature. Sheltered workshops perform a service for their clients by reporting monthly wages directly to SSA. SSA uses the information these workshops provide to verify and post monthly wages to the SSI recipient's record. Most workshops report monthly wage totals to their local SSA office so we can adjust the client's SSI payment amount in a timely manner and prevent overpayments. Sheltered workshops are motivated to report wages voluntarily as a service to their clients. Respondents are sheltered workshops that report monthly wages for services performed in the workshop.

Type of Request: Revision of an OMB-approved information collection.

Number of Respondents: 900.

Frequency of Response: 12.

Average Burden per Response: 15 minutes.

Estimated Annual Burden: 2,700 hours.

Dated: December 28, 2010.
Faye Lipsky,
Reports Clearance Officer, Center for Reports Clearance, Social Security Administration.

[FR Doc. 2010-33078 Filed 12-30-10; 8:45 am]

BILLING CODE 4191-02-P